DEPARTMENT OF DEFENSE

Department of the Navy

Notice of Availability of Government-Owned Inventions; Available for Licensing

AGENCY: U.S. Department of the Navy, DoD.

ACTION: Notice.

SUMMARY: The inventions listed below are assigned to the U.S. Government as represented by the Secretary of the Navy and are available for licensing by the Department of the Navy.

U.S. Patent No. 6,996,493: PROGRAMMED COMPUTATION OF PREDICTED PRESSURE LOADS ON MARINE VESSELS.//U.S. Patent No. 7,025,014: SEA VESSEL RETRIEVAL OF UNMANNED UNDERWATER VEHICLES.//U.S. Patent No. 7,025,112: PRETREATMENT PROCESSING OF METAL-MATRIX CARBIDE POWER FOR MOLD CASTING OF PRODUCTS.//U.S. Patent No. 7,026,738: QUAD SHAFT CONTRAROTATING HOMOPOLAR MOTOR.//U.S. Patent No. 7,026,981: SURFACE INTERACTION REGION METHODOLOGY FOR DELIMITING MULTIPATH PROPAGATION INQUIRY://U.S. Patent No. 7,041,987: INSPECTION OF COMMON MATERIALS FOR RADIATION EXPOSURE BY ATOMIC AND/OR MAGNETIC FORCE MICROSCOPY.//U.S. Patent No. 7,052,226: WHEELED CONTAINER TRANSFER SELF-ALIGNING PLATFORM FOR MARINE TERMINAL CRANE.//U.S. Patent No. 7,052,607: BIOREACTOR PROCESSING METHOD WITHIN A TANK INTERNALLY CHAMBERED TO SEQUENTIALLY PERFORM BIOLOGICAL TREATMENT AND MEMBRANE FILTRATION.//U.S. Patent No. 7,059,566: UNMANNED AERIAL VEHICLE FOR LOGISTICAL DELIVERY.//U.S. Patent No. 7,068,027: SYSTEM FOR MEASUREMENT OF METALLIC DEBRIS IN FLUID.//U.S. Patent No. 7,070,882: REACTIVE METAL HYDROGEL/INERT POLYMER COMPOSITE ANODE AND PRIMARY METAL-AIR BATTERY.//U.S. Patent No. 7,082,355: WAKE WASH SEVERITY MONITOR FOR HIGH SPEED VESSELS.//U.S. Patent No. 7,090,893: RHENIUM COMPOSITE.//U.S. Patent No. 7,101,237: PROPELLOR BLADE ADJUSTMENT SYSTEM FOR PROPULSION THROUGH FLUID ENVIRONMENTS UNDER CHANGING CONDITIONS.//U.S. Patent No. 7,110,891: DEGAUSSING VULNERABILITY DISPLAY PROGRAM.//U.S. Patent No. 7,108,782: MARINE VESSEL ONBOARD WASTEWATER TREATMENT SYSTEM.//U.S. Patent No. 7,111,523: ROTATIONAL POWER TRANSMITTING DRIVE COMPONENT WITH IMPROVED ACOUSTIC AND ASSEMBLY CHARACTERISTICS.//U.S. Patent No. 7,111,809: AIRCRAFT EXCESSIVE FUEL DUMPING EJECTION PARALLEL TO FLIGHT DIRECTION.//U.S. Patent No. 7,114,764: MINE AND COLLISION PROTECTION FOR PASSENGER VEHICLE.//U.S. Patent No. 7,122,117: SELF-CLEANING COMPOSITE DECK DRAIN.//U.S. Patent No. 7,124,698: AUXILIARY FACILITIES FOR THE MANEUVERING OF SUBMERGED WATER JET PROPELLED SEA CRAFT.//U.S. Patent No. 7,136,324: PRESSURE EQUALIZING FLUIDBORNE SOUND PROJECTOR.//U.S. Patent No. 7,138,743: SOLID AND LIQUID HYBRID CURRENT TRANSFERRING BRUSH.//U.S. Patent No. 7,138,941: IN-SITU CALIBRATION OF RADAR FREQUENCY MEASUREMENT.//U.S. Patent No. 7,139,223: DEEP WATER SURVEILLANCE SYSTEM.//U.S. Patent No. 7,144,282: CONTOURED RUDDER MANEUVERING OF WATERJET PROPELLED SEA CRAFT.//U.S. Patent No. 7,148,600: ELECTRICAL CURRENT TRANSFERRING AND BRUSH PRESSURE EXERTING INTERLOCKING SLIP RING ASSEMBLY.//U.S. Patent No. 7,149,150: UNDERWATER SURVEILLANCE SYSTEM.//U.S. Patent No. 7,152,375: SEAL INTEGRITY DETECTION SYSTEM.//U.S. Patent No. 7,163,107: OIL/WATER SEPARATOR WITH ENHANCED IN-SITU CLEANING.//U.S. Patent No. 7,163,138: FRICTION STIRRED INTRODUCTION OF PARTICLES INTO A METALLIC SUBSTRATE FOR SURFACE DURABILITY TREATMENT.//U.S. Patent application Serial No. 7,178,782: QUIET OPENING BALL VALVE.//U.S. Patent application Serial No. 7,179,090: INTEGRAL DUAL-COMPONENT CURRENT COLLECTION DEVICE.//U.S. Patent application Serial No. 7,180,581: LITHOGRAPHY FOR OPTICAL PATTERNING OF FLUIDS.//U.S. Patent application Serial No. 7,180,828: NON-KINKING OIL-FILLED ACOUSTIC SENSOR STAVE.//U.S. Patent application Serial No. 7,198,001: UNDERWATER INSPECTION MEASUREMENT SURVEY.//U.S. Patent application Serial No. 7,206,258: DUAL RESPONSE ACOUSTICAL SENSOR SYSTEM.//U.S. Patent application Serial No. 7,214,306: ELEVATED POTENTIAL DEPOSITION OF RHENIUM ON GRAPHITE SUBSTRATES FROM A REO.SUB.2/H.SUB.2O.SUB.2 SOLUTION.//U.S. Patent application Serial No. 7,114,764: MINE AND COLLISION PROTECTION FOR PASSENGER VEHICLE.//PTC international application No. PTC/US2005/013934: ARMOR INCLUDING A STRAIN RATE HARDENING ELASTOMER.

ADDRESSES: Requests for copies of the patents cited should be directed to: Technology Transfer Office, Naval Surface Warfare Center Carderock Division, Code 0022, 9500 MacArthur Blvd, West Bethesda, MD 20817-5700, and must include the patent number.

FOR FURTHER INFORMATION CONTACT: Dr. Joseph Teter, Director, Technology Transfer Office, Naval Surface Warfare Center Carderock Division, Code 0022, 9500 MacArthur Blvd, West Bethesda, MD 20817-5700, telephone 301-227-4299.

(Authority: 35 U.S.C. 207, 37 CFR Part 404.)

Dated: June 11, 2007.
L.R. Almand,
Office of the Judge Advocate General, Administrative Law Division, Federal Register Liaison Officer.

[FR Doc. E7-11678 Filed 6-15-07; 8:45 am]

BILLING CODE 3810-FF-P